DEPARTMENT OF ENERGY

Basic Energy Sciences Advisory Committee

AGENCY: Office of Science, Department of Energy.

ACTION: Notice of open meeting: cancelled.

SUMMARY: On February 14, 2020, the Department of Energy published a notice of open meeting, announcing meetings on March 19 and March 20, 2020, of the Basic Energy Sciences Advisory Committee in Rockville, Maryland. This document makes a correction to that notice.

FOR FURTHER INFORMATION CONTACT: Katie Runkles, Office of Basic Energy Sciences, U.S. Department of Energy, Germantown Building, 1000 Independence Avenue SW, Washington, DC 20585; Phone: (202) 903-6529; email: katie.runkles@science.doe.gov.

Corrections

In the Federal Register of February 14, 2020, in FR Doc. 2020-03038, on page 8580, please make the following correction:

In that notice under DATES, the meeting has been cancelled.

Reason for Correction: The change is to allow a full report from the Neutron Scattering Subcommittee, as well as an interim report from the International Benchmarking Subcommittee.

Signed in Washington, DC on March 10, 2020.
LaTanya Butler,
Deputy Committee Management Officer.

[FR Doc. 2020-05275 Filed 3-13-20; 8:45 am]

BILLING CODE P